DEPARTMENT OF HEALTH AND HUMAN SERVICES

Centers for Medicare & Medicaid Services

[CMS-1419-N]

Medicare Program; Request for Nominations for the Program Advisory and Oversight Committee for the Competitive Acquisition of Durable Medical Equipment and Other Items

AGENCY: Centers for Medicare & Medicaid Services (CMS), HHS.

ACTION: Notice.

SUMMARY: This notice solicits nominations for individuals to serve on the Program Advisory and Oversight Committee (PAOC) that will advise the Secretary of Health and Human Services on the competitive acquisition of durable medical equipment and certain other items and services under the Medicare program. Section 1847(c) of the Social Security Act requires the Secretary of the Department of Health and Human Services (Secretary) to establish the PAOC. In addition, section 1847(c)(4) exempts the PAOC from the Federal Advisory Committee Act, 5 U.S.C., appendix 2.

DATES: Nominations will be considered if we receive all of the required information no later than 5 p.m., November 3, 2008.

ADDRESSES: Mail or deliver nominations to the following address: Division of DMEPOS Policy, Mail stop C5-08-17, Centers for Medicare & Medicaid Services, 7500 Security Boulevard, Baltimore MD, 21244-1850. Attention: Ralph Goldberg or Gina Longus. Nominations may also be e-mailed to ralph.goldberg@cms.hhs.gov or gina.longus@cms.hhs.gov.

FOR FURTHER INFORMATION CONTACT: Ralph Goldberg, (410) 786-4870 or Gina Longus, (410) 786-1287. Press inquiries are handled through the CMS Press Office at (202) 690-6145.

SUPPLEMENTARY INFORMATION:

I. Background

Payment for durable medical equipment (DME) is currently based on fee schedule amounts established using reasonable charge data from earlier years. Section 1847 of the Social Security Act (the Act) requires the Secretary to replace the current DME payment methodology for certain items with a competitive bidding process to improve the effectiveness of Medicare's methodology for setting DME payment amounts. This bidding process will establish payment for certain durable medical equipment, enteral nutrition, prosthetics, and off-the-shelf orthotics. In addition, section 1847(c) of the Act requires the Secretary to establish a Program Advisory and Oversight Committee (PAOC) to provide advice on the development and implementation of the program.

We established a PAOC pursuant to this statutory mandate, and the PAOC has provided advice in the development and implementation of the program to date. On July 15, 2008, Congress passed the Medicare Improvements for Patients and Providers Act of 2008 (MIPPA). Section 154 of MIPPA delays competition for Rounds 1 and 2 of the competitive bidding program and requires certain modifications to the program. Section 154(c)(2)(A) of MIPPA delays the termination date for the PAOC from December 31, 2009 to December 31, 2011.

The PAOC committee continues to have an important role in the implementation of the competitive bidding program. The PAOC members will need to review the previous bidding process and consider all of the MIPPA changes. Due to the length of the MIPPA delay and these additional duties, we have decided to end the term of service for the initial PAOC members and solicit nominees to serve for the next phase of the program.

II. Goals, General Responsibilities, and Composition of the Program Advisory and Oversight Committee (PAOC)

A. Goals and General Responsibilities

Section 1847(c)(3) of the Act requires the PAOC to provide advice to the Secretary on the following:

• The implementation of the program.

• The establishment of financial standards, taking into account the needs of small providers.

• The establishment of requirements for collection of data for the efficient management of the program.

• The development of proposals for efficient interaction among manufacturers, providers of services, suppliers, and individuals.

• The establishment of quality standards.

Section 1847(c)(3)(B) of the Act requires the PAOC to perform additional functions to assist the Secretary in implementing the program as the Secretary may specify. In accordance with section 1847(c)(5) of the Act, as amended by section 154 of MIPPA, the Committee will terminate on December 31, 2011. Committee meetings are expected to occur on an ad hoc basis. Committee meetings will be held in the Baltimore/Washington DC area. (We will reimburse travel expenses, which will be based on government per diem rates and travel policy.)

B. Composition of the Program Advisory and Oversight Committee

We have particular interest in individuals with expertise in DME, prosthetics, orthotics, or supplies (DMEPOS) and competitive bidding, as well as experience in furnishing services and items in the rural and the urban marketplace. The PAOC will be composed of 10 to 12 members from the following broad representation:

• Beneficiary/consumer representatives.

• Physicians and other practitioners.

• Suppliers.

• Professional standards organizations.

• Financial standards specialists (that is, economist/CPA).

• Association representatives.

• Other. (If you believe that representatives of other specialties or with other skills should be included on the committee, you may indicate the category or respective categories and you may nominate an individual for that category.)

III. Submission of Nominations

This notice is requesting nominations for membership on the PAOC. The Secretary will consider qualified individuals who are determined to have the expertise required to meet specific agency needs and who will ensure an appropriate balance of membership. Nominations may be made for one or more qualified individuals, and self-nominations will also be accepted. Each nomination must include the following:

1. A letter of nomination that includes both of the following:

a. Contact information for both the nominator and nominee (if not the same).

b. The category, as specified in section II.B. of this notice for which the nomination is being made (for example, suppliers or association representatives).

2. A curriculum vitae or resume of the nominee that includes a statement of the nominee's current professional responsibilities (not to exceed five pages).

3. A statement that the nominee is willing to serve on the committee for its duration (that is, until December 31, 2011). This statement should also include a discussion of the nominee's relevant experience (not to exceed three pages). (For self-nominations, this information may be included in the nomination letter.)

Authority: Section 1847(c) of the Social Security Act.

(Catalog of Federal Domestic Assistance Program No. 93.773, Medicare—Hospital Insurance Program; and Program No. 93.774, Medicare—Supplementary Medical Insurance Program)

Dated: September 25, 2008.
Kerry Weems,
Acting Administrator, Centers for Medicare & Medicaid Services.

[FR Doc. E8-23159 Filed 10-1-08; 8:45 am]

BILLING CODE 4120-01-P